FEDERAL RETIREMENT THRIFT INVESTMENT BOARD

Sunshine Act Notice

Time and Date: 9 a.m. (e.d.t.), April 19, 2004.

Place: 4th Floor, Conference Room, 1250 H Street, NW., Washington, DC.

Status: Parts will be open to the public and parts closed to the public.

Matters To Be Considered:

Parts Open to the Public

9 a.m. (e.s.t.) convene meeting.

1. Approval of the minutes of the March 15, 2004, Board member meeting.

2. Thrift Savings Plan activity report by the Executive Director.

3. Review of FY 2004 Budget/FY 2005 Budget Estimates.

4. Investment Policy Review.

5. Status of DOL Audit.

Parts Closed to the Public

6. Personnel matters.

7. Procurement issues.

Contact Person for More Information: Thomas J. Trabucco, Director, Office of External Affairs, (202) 942-1640.

Dated: April 7, 2004.
Elizabeth S. Woodruff,
Secretary to the Board, Federal Retirement Thrift Investment Board.

[FR Doc. 04-8259 Filed 4-7-04; 3:44 pm]

BILLING CODE 6760-01-P